PRESIDIO TRUST

Notice of Wireless Telecommunications Site

AGENCY: The Presidio Trust.

ACTION: Public notice.

SUMMARY: This notice announces the Presidio Trust's receipt of and availability for public comment on an application from GTE Mobilnet of California d/b/a Verizon Wireless to construct and operate a new wireless telecommunications facilities site (“Project”) in the Presidio of San Francisco. The proposed location of the Project is in the vicinity of 1450 Battery Caulfield Road.

The Project involves (i) installing a 130-foot lattice tower to accommodate up to 12 antenna mounted at a centerline of 126 feet, and (ii) placing the associated radio and communications equipment on a concrete pad beneath the tower. Power and fiber connections for the project will be provided through underground cables connected to existing power and fiber sources.

Comments: Comments on the proposed project must be sent to Steve Carp, Presidio Trust, 103 Montgomery Street, P.O. Box 29052, San Francisco, CA 94129-0052, and be received by December 24, 2015. A copy of Verizon's application is available upon request to the Presidio Trust.

FOR FURTHER INFORMATION CONTACT: Steve Carp, Presidio Trust, 103 Montgomery Street, P.O. Box 29052, San Francisco, CA 94129-0052. Email: scarp@presidiotrust.gov. Telephone: 415.561.5300.

Dated: November 19, 2015.
Andrea M. Andersen,
Acting General Counsel.

[FR Doc. 2015-29993 Filed 11-24-15; 8:45 am]

BILLING CODE 4310-4R-P